DEPARTMENT OF THE INTERIOR

Fish and Wildlife Service

Pea Island National Wildlife Refuge

AGENCY: Fish and Wildlife Service, Interior.

ACTION: Notice of availability of the Draft Comprehensive Conservation Plan and Environmental Assessment for Pea Island National Wildlife Refuge in Dare County, NC.

SUMMARY: This notice announces that a Draft Comprehensive Conservation Plan and Environmental Assessment for Pea Island National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation, wildlife photography, and environmental education and interpretation.

DATES: Open house style meeting will be held in early 2006 in Hatteras Island and Manteo, North Carolina, to present the plan to the public. Mailings, newspaper articles, and postings on the refuge Web site will be the avenues to inform the public of the dates and times of the meetings. Individuals wishing to comment on the Draft Comprehensive Conservation Plan and Environmental Assessment for Pea Island National Wildlife Refuge should do so no later than March 8, 2006. Public comments were requested, considered, and incorporated throughout the planning process in numerous ways. Public outreach has included scoping meetings, a review of the biological program, an ecosystem planning newsletter, and a Federal Register notice.

ADDRESSES: Request for copies of the draft comprehensive conservation plan and environmental assessment should be addressed to Bonnie Strawser, P.O. Box 1969, Manteo, North Carolina 27954. Comments on the draft plan may also be submitted via electronic mail to: bonnie_strawser@fw.gov. Our practice is to make comments, including names and home addresses of respondents, available for public review during regular business hours. Individual respondents may request that we withhold their home addresses from the record, which we will honor to the extent allowed by law.

SUPPLEMENTARY INFORMATION: The Service analyzed five alternatives for future management and chose Alternative 2, an alternative that addresses the refuge's highest priorities.

Proposed goals for the refuge include:

• Protect, maintain, and enhance healthy and viable populations of indigenous migratory birds, wildlife, fish, and plants, including Federal and State threatened and endangered species.

• Restore, maintain, and enhance the health and biodiversity of barrier island upland and wetland habitats to ensure optimum ecological productivity.

• Provide the public with safe, quality wildlife-dependent recreational and educational opportunities that focus on barrier island wildlife and habitats of the refuge.

• Continue to participate in local efforts to sustain economic health through nature-based tourism.

• Protect refuge resources by limiting the adverse impacts of human activities and development.

• Acquire and manage adequate funding, human resources, facilities, equipment, and infrastructure to accomplish the other refuge goals.

Also available for review are draft compatibility determinations for recreational hunting, fishing, wildlife observation, wildlife photography, and environmental education and interpretation.

Alternatives

Alternative 1 proposes to maintain the status quo. The refuge would manage very intensively the water levels of the impoundments and the vegetation to create optimum habitat for migrating waterfowl, shorebirds, wading birds, and aquatic organisms. It would manage marshes with prescribed fire. The staff would survey sea turtles, waterfowl, shorebirds, and wading birds on a routine basis. The refuge would allow five of the six priority public use activities: Fishing, wildlife observation, wildlife photography, and environmental education and interpretation. The staff would conduct extensive environmental education and interpretation programs with the assistance of 25,000 hours of volunteer service every year. There would be one staff public use specialist stationed at the refuge. Staff from the Alligator River National Wildlife Refuge would manage the refuge, administer budgets and contracts, maintain the facilities, manage impoundment and marsh habitats, and conduct wildlife surveys.

Alternative 2 proposes moderate program increases. The refuge would continue to manage very intensively the water levels of the impoundments and the vegetation to create optimum habitat for migrating waterfowl, shorebirds, wading birds, and aquatic organisms. It would manage for fall shorebird habitat. It would also manage marshes with prescribed fire. The staff would survey a wider range of wildlife on the refuge, adding regular surveys of land birds. The refuge would continue to allow five of the six priority public use activities, but would have the capacity to increase the number of opportunities. The staff would continue to conduct extensive environmental education and interpretation programs with the assistance of 30,000 hours of volunteer service every year. There would be five staff members stationed at the refuge, including an assistance refuge manager, biologist, two public use specialists, and a maintenance worker. Staff from the Alligator River National Wildlife Refuge would still administer budgets and contracts and manage impoundment and marsh habitats.

Alternative 3 proposes optimum program increases. The refuge would continue to manage very intensively the water levels of the impoundments and the vegetation to create optimum habitat for migrating waterfowl, shorebirds, wading birds, and aquatic organisms. It would manage for fall shorebird habitat. It would also manager marshes with prescribed fire. The staff would survey a wider range of wildlife on the refuge, adding regular surveys of land birds, wading birds, mammals, invertebrates, reptiles, and amphibians. The refuge would continue to allow five of the six priority public use activities, but would have the capacity to increase the number of opportunities. The staff would continue to conduct extensive environmental education and interpretation programs with the assistance of 35,000 hours of volunteer service every year. There would be twelve staff members stationed at the refuge, including an assistant refuge manager, biologist, three biological technicians, two public use specialists, and five maintenance workers. Staff from the Alligator River National Wildlife Refuge would still administer budgets and contracts and manage marsh habitat.

Alternative 4 assumes vehicular access to the refuge on a paved road would be eliminated from the north, but access would be maintained from the south as far north as the visitor center. The alternative assumes that natural processes would dominate the area north of the visitor center and habitat for colonial nesting shorebirds would increase. The refuge would continue to manage impoundments and marshes. The staff would survey all wildlife on the refuge. The refuge would provide public use opportunities, but the number of visitors would decrease due to the limited access. Staffing would be the same as Alternative 3.

Alternative 5 assumes access to the refuge on a paved road would be totally eliminated. The Service would provide other means of accessing the refuge. The alternative assumes that natural processes would dominate the entire refuge and habitat for colonial nesting shorebirds would increase substantially. The refuge would continue to manage impoundments and marshes. The staff would survey all wildlife on the refuge. The refuge would provide public use opportunities, but the number of visitors would decrease due to the limited access. Staffing would be the same as Alternative 3.

Actions Common to All Alternatives

All five alternatives share the following concepts and techniques for achieving the goals of the refuge:

• Cooperating with State and Federal agencies, and non-government organizations, to evaluate the effects of dredging on Oregon Inlet and placement of dredge material on the refuge beaches;

• Cooperating with State and Federal agencies, and non-government organizations, to evaluate the effects of the maintenance of North Carolina Highway 12 on the refuge resources;

• Utilizing volunteers to execute the public use, biological, and maintenance programs on the refuge;

• Providing extensive public use opportunities in fishing, environmental education, interpretation, wildlife observation, and wildlife photography;

• Monitoring populations of waterfowl, shorebirds, and wading birds, and vegetation in the refuge impoundments;

• Maintaining the vegetation in the marsh with prescribed fire; and

• Encouraging scientific research on the refuge.

Pea Island National Wildlife Refuge, in northeastern North Carolina, consists of 5,000 acres, or which 1,375 acres are salt marsh, 790 acres are managed wetlands (impoundments), 565 acres are maritime scrub/shrub, and 450 acres are dune. These habitats support a variety of wildlife species including waterfowl, shorebirds, wading birds, sea turtles, and neotropical migratory songbirds.

The refuge hosts more than two million visitors annually, who participate in fishing, wildlife observation, wildlife photography, and environmental education and interpretation.

Authority: This notice is published under the authority of the National Wildlife Refuge System Improvement Act of 1997, Public Law 105-57.

Dated: April 1, 2005.
Cynthia K. Dohner,
Acting Regional Director.

Note: This document was received at the office of the Federal Register February 1, 2006.

[FR Doc. 06-1047 Filed 2-3-06; 8:45 am]

BILLING CODE 4310-55-M